LIBRARY OF CONGRESS

Copyright Office

37 CFR Part 201

[Docket No. RM 2001-6]

Determination of Reasonable Rates and Terms for the Digital Performance of Sound Recordings

AGENCY: Copyright Office, Library of Congress.

ACTION: Extension of comment period.

SUMMARY: The Copyright Office is extending the period to file comments to proposed amendments to the regulations governing the content and service of certain notices on the copyright owner of a musical work. The notice is served or filed by a person who intends to use the work to make and distribute phonorecords, including by means of digital phonorecord deliveries, under a compulsory license.

DATES: Comments are due no later than October 12, 2001.

ADDRESSES: An original and ten copies of any comment shall be delivered to: Office of the General Counsel, Copyright Office, James Madison Building, Room LM-403, First and Independence Avenue, SE., Washington, DC; or mailed to: Copyright Arbitration Royalty Panel (CARP), P.O. Box 70977, Southwest Station, Washington, DC 20024-0977.

FOR FURTHER INFORMATION CONTACT: David O. Carson, General Counsel, or Tanya M. Sandros, Senior Attorney, Copyright Arbitration Royalty Panel, P.O. Box 70977, Southwest Station, Washington, DC 20024. Telephone: (202) 707-8380. Telefax: (202) 252-3423.

SUPPLEMENTARY INFORMATION: On August 28, 2001, the Copyright Office published a notice of proposed rulemaking seeking comments on proposed amendments to the regulations governing the content and service of certain notices on the copyright owner of a musical work. 66 FR 45241 (August 28, 2001). The notice is served or filed by a person who intends to use the work to make and distribute phonorecords, including by means of digital phonorecord deliveries, under a compulsory license. 17 U.S.C. 115. Comments on the proposed amendments were due on September 27, 2001.

On September 21, 2001, the Office received a request for an extension of the filing date for comments until October 12, 2001. The Office is granting this request and is extending the deadline for filing comments to October 12, 2001.

Dated: September 24, 2001.
Marilyn J. Kretsinger,
Assistant General Counsel.

[FR Doc. 01-24248 Filed 9-26-01; 8:45 am]

BILLING CODE 1410-31-P